COMMITTEE FOR PURCHASE FROM PEOPLE WHO ARE BLIND OR SEVERELY DISABLED

Procurement List; Proposed Additions

AGENCY: Committee for Purchase From People Who Are Blind or Severely Disabled

ACTION: Proposed Additions to Procurement List.

SUMMARY: The Committee has received proposals to add to the Procurement List commodities and services to be furnished by nonprofit agencies employing persons who are blind or have other severe disabilities.

DATES: Comments must be received on or before August 21, 2000.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, all entities of the Federal Government (except as otherwise indicated) will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information.

The following commodities and services have been proposed for addition to Procurement List for production by the nonprofit agencies listed:

Commodities

Paper Shredder

75201241 (Strip Cut)

75201242 (Cross Cut)

75201419 (Strip Cut)

75201420 (Cross Cut)

NPA: L.C . Industries for the Blind, Inc.

Durham, North Carolina

Services

Grounds Maintenance

MCRD-SCE Parcels

Marine Corps Recruit Depot

San Diego, California

NPA: Association for Retarded Citizens—San Diego

San Diego, California

Janitorial/Custodial

NASA Headquarters

300 E Street, SW

Washington, DC

NPA: Fairfax Opportunities Unlimited, Inc.

Alexandria, Virginia

Janitorial/Custodial

New Executive Office Building

Jackson Place Townhouses

Winder Building and 1724 F Street

Washington, DC

NPA: Melwood Horticultural Training Center

Upper Marlboro, Maryland

Janitorial/Custodial

U.S. Fish & Wildlife Service

Great Swamp National Wildlife Refuge

Basking Ridge, New Jersey

NPA: Occupational Training Center of Morris County

Cedar Knolls, New Jersey

Laundry Service

Linen Exchange

Building 426

March Air Force Base, California

NPA: Job Options, Inc.

San Diego, California

Mailing Services

NASA Goddard Space Flight Center

Greenbelt, Maryland

NPA: Fairfax Opportunities Unlimited, Inc.

Alexandria, Virginia

Louis R. Bartalot,
Deputy Director (Operations).

[FR Doc. 00-18541 Filed 7-20-00; 8:45 am]

BILLING CODE 6353-01-p